NEIGHBORHOOD REINVESTMENT CORPORATION

NHSA Special Board of Directors Meeting; Sunshine Act

Time and Date: 12:30 p.m., Tuesday, May 11, 2010.

Place: 1325 G Street, NW., Suite 800, Boardroom, Washington, DC 20005.

Status: Open.

Contact Person for More Information: Erica Hall, Assistant Corporate Secretary, (202) 220-2376; ehall@nw.org.

Agenda:

I. Call to Order.

II. Discussion and Recommendation For Interim Funding.

III. Adjournment.

Erica Hall,
Assistant Corporate Secretary.

[FR Doc. 2010-12975 Filed 6-2-10; 8:45 am]

BILLING CODE 7570-02-M